DEPARTMENT OF THE TREASURY

Internal Revenue Service

26 CFR Part 1

[TD 9080]

RIN 1545-BC47

Reduction of Tax Attributes Due to Discharge of Indebtedness; Correction

AGENCY: Internal Revenue Service (IRS), Treasury.

ACTION: Correction to final and temporary regulations.

SUMMARY: This document contains corrections to final and temporary regulations relating to the reduction of tax attributes under sections 108 and 1017 of the Internal Revenue Code. These temporary regulations affect taxpayers that excluded discharge of under section 108. This document was published in the Federal Register on July 18, 2003 (68 FR 42590).

EFFECTIVE DATE: This correction is effective July 18, 2003.

FOR FURTHER INFORMATION CONTACT: Theresa M. Kolish (202) 622-7930 (not a toll-free number).

SUPPLEMENTARY INFORMATION:

Background

The proposed regulations that are the subject of these corrections are under sections 108 and 1017 of the Internal Revenue Code.

Need for Correction

As published, the final regulations (TD 9080) contain errors that may prove to be misleading and are in need of clarification.

Correction of Publication

Accordingly, the publication of the final regulations (TD 9080), which is the subject of FR Doc. 03-18145, is corrected as follows:

§ 1.108-7T [Corrected]

1. On page 42592, column 3, § 1.108-7T, paragraph (a)(2), line 2, the language “section 108(b)(5), however, to reduce” is corrected to read “section 108(b)(5), however, to apply any portion of the excluded COD income to reduce”.

2. On page 42592, column 3, § 1.108-7T, paragraph (a)(2), lines 3 thru 7, the language “first the basis of depreciable property to the extent of the excluded COD income. If the basis of depreciable property is insufficient to offset the entire amount of the excluded COD, the” is corrected to read “first the basis of depreciable property to the extent the excluded COD income is not so applied, the”.

3. On page 42593, column 1, § 1.108-7T, paragraph (d)(ii), of Example 3, line 3, the language “trade debts of $200,000 and a depreciable”, is corrected to read “debts of $200,000 and a depreciable”.

4. On page 42592, column 1, § 1.108-7T, paragraph (d)(ii), of Example 3, line 14, the language “trade debts of $200,000 and a depreciable”, is corrected to read “debts of $200,000 and a depreciable”.

5. On page 42593, column 1, § 1.108-7T, paragraph (d)(ii), of Example 3, line 19, the language “requirements of section 354(a)(1)(A) and (B).” is corrected to read “requirements of section 354(b)(1) (A) and (B).”.

6. On page 42593, column 1, § 1.108-7T, paragraph (ii), of Example 3, line 2, the language “to X's trade creditors, under section”, is corrected to read “to X's creditors, under section”.

7. On page 42593, column 1, § 1.108-7T, paragraph (ii), of Example 3, line 7, the language “owed the trade creditors for $100,000, the fair” is corrected to read “owed the creditors for $100,000, the fair”.

8. On page 42593, column 2, § 1.108-7T, paragraph (ii), of Example 4, line 2, the language “distribution of Y stock to X's trade creditors,” is corrected to read “distribution of Y stock to X's creditors,”.

LaNita Van Dyke,
Acting Chief, Regulations Unit, Associate Chief Counsel (Procedure and Administration).

[FR Doc. 03-21469 Filed 8-21-03; 8:45 am]

BILLING CODE 4830-01-P